DEPARTMENT OF VETERANS AFFAIRS

Geriatric and Gerontology Advisory Committee; Notice of Meeting

The Department of Veterans Affairs (VA) gives notice under the Federal Advisory Committee Act, 5 U.S.C. ch.10, that a meeting of the Geriatric and Gerontology Advisory Committee will be held in person or virtually on Tuesday, September 19, 2023, from 8 a.m. to 4 p.m. and Wednesday, September 20, 2023, from 8 a.m. to 12 noon (Eastern Daylight Time). This meeting will be held at the American Health Care Association 1201 L St NW, Washington, DC 20005, as well as virtually via WebEx and is open to the public.

The purpose of the Committee is to provide advice to the Secretary of VA and the Under Secretary for Health on all matters pertaining to geriatrics and gerontology. The Committee assesses the capability of VA health care facilities and programs to meet the medical, psychological, and social needs of older Veterans, and evaluates VA programs designated as Geriatric Research, Education, and Clinical Centers.

Although no time will be allocated for receiving oral presentations from the public, members of the public may submit written statements for review by the Committee to:

Marianne Shaughnessy, Ph.D., AGPCNP-BC, GS-C, FAAN, Designated Federal Officer, Veterans Health Administration by email at Marianne.Shaughnessy@va.gov. Comments will be accepted until close of business on September 5, 2023. In the communication, the writers must identify themselves and state the organization, association of person(s) they represent.

Any member of the public wishing to attend either in person or virtually or seeking additional information should email Marianne.Shaughnessy@va.gov or call 202-407-6798, no later than close of business on September 5, 2023, to provide their name, professional affiliation, email address and phone number. For anyone wishing to attend virtually, they may use the WebEx link for September 19, 2023: https://veteransaffairs.webex.com/veteransaffairs/j.php?MTID=m5ce88c71441022da641a7457671f2589 meeting number (access code): 2760 953 2619, meeting password: TMxssYB@599 or September 20, 2023: https://veteransaffairs.webex.com/veteransaffairs/j.php?MTID=m3c3fa92a99c22ab433e4cd80f0930d2c, meeting number (access code): 2761 044 3914, meeting password: NAbHcYE?624, or to join by phone either day: 1-404-397-1596.

Dated: July 17, 2023.
LaTonya L. Small,
Federal Advisory Committee Management Officer.

[FR Doc. 2023-15421 Filed 7-19-23; 8:45 am]

BILLING CODE 8320-01-P